DEPARTMENT OF TRANSPORTATION

Federal Transit Administration

Pilot Program for Transit-Oriented Development Planning Project Selections

AGENCY: Federal Transit Administration, DOT.

ACTION: Pilot program for transit-oriented development planning announcement of project selections.

SUMMARY: The U.S. Department of Transportation's (DOT) Federal Transit Administration (FTA) announces the selection of projects for Fiscal Year 2013 and 2014 funds under the Pilot Program for Transit-Oriented Development Planning, as authorized under Section 20005(b) of the Moving Ahead for Progress in the 21st Century Act (MAP-21), Public Law 112-141. On September 4, 2014, FTA published a Notice of Funding Availability (NOFA) (79 FR 171) announcing the availability of $19.98 million in funding for this program. This program supports comprehensive planning efforts associated with new fixed guideway and core capacity improvement projects to assist project sponsors in the development of information to address FTA's Capital Investment Grant (CIG) Program evaluation criteria.

FOR FURTHER INFORMATION CONTACT: Successful applicants should contact the appropriate FTA Regional Office for information regarding applying for the funds. For program-specific information, applicants may contact Benjamin Owen, FTA Office of Planning and Environment, at (202) 366-5602 or benjamin.owen@dot.gov. A list of Regional Offices can be found at www.fta.dot.gov. A TDD is available at 1-800-877-8339 (TDD/FIRS).

SUPPLEMENTARY INFORMATION: In response to the NOFA, FTA received 28 project proposals from project sponsors located in 20 States. Project proposals were evaluated based on each applicant's responsiveness to the program evaluation criteria as detailed in the NOFA. Four of the 28 projects were deemed ineligible to receive funds because they did not meet the eligibility requirements described in the NOFA. Two of the 28 projects were cancelled by the project sponsors during the course of the evaluation process, and a third was under review by local decision-makers for possible cancellation or advancement, but with a significantly altered project scope. The remaining 21 projects were eligible and consistent with the goals of the NOFA, and FTA is funding each of these projects as shown in Table I for a total of $19.49 million.

Grantees selected for competitive discretionary funding should work with their FTA Regional Office to submit a grant application in FTA's electronic grants management system so that funds can be obligated expeditiously. Grant applications must only include eligible activities applied for in the original project application. Funds must be used consistent with the competitive proposal and for the eligible purposes established in the NOFA and described in FTA Circulars 5010 and 9300.1B. In cases where the allocation amount is less than the proposer's requested amount, grantees should work with FTA's Office of Planning and Environment to reduce the work scope appropriately such that the intent of the original proposal will be accomplished. Grantees are reminded that program requirements are detailed in the NOFA. The maximum Federal funding share for this program is 80 percent. A discretionary project identification number has been assigned to each project for tracking purposes and must be used in the grant application. FTA is not extending pre-award authority for selected projects prior to grant awards. Local funds must be committed and grants awarded by September 30, 2016. Post-award reporting requirements include submission of the Federal Financial Report and Milestone reports in FTA's electronic grants management system as appropriate (see FTA Circulars 5010.1D and 9030.1E). The grantees must comply with all applicable Federal statutes, regulations, executive orders, FTA circulars, and other Federal requirements in carrying out the project supported by the FTA grant. FTA emphasizes that grantees must follow all third-party procurement guidance, as described in FTA.C.4220.1F. Funds allocated in this announcement must be obligated in a grant by September 30, 2016.

Therese W. McMillan,
Acting Administrator.

Table I—FY 2015 Pilot Program for Transit-Oriented Development Planning Project Selections
State | Recipient | Project ID | Project description | Allocation
AZ | City of Phoenix Public Transit Department (Valley Metro) | D2015-TODP-0001 | Tempe Streetcar Corridor Transit-Oriented Development (TOD) Planning | $250,000
CA | Bay Area Rapid Transit District | D2015-TODP-0002 | Transbay Corridor TOD Implementation Strategies | 1,100,000
CA | Peninsula Corridor Joint Powers Board | D2015-TODP-0003 | Caltrain Station Management Toolbox | 600,000
CA | Sacramento Area Council of Governments | D2015-TODP-0004 | Streetcar Toolkit—Stitching Together Two River Cities through TOD | 1,118,720
CA | San Diego Association of Governments | D2015-TODP-0005 | Mid-Coast Corridor Mobility Hub Implementation Strategy | 429,635
CT | Connecticut Department of Transportation | D2015-TODP-0006 | Creating TOD Opportunity for New Stations within the New Haven-Hartford-Springfield Rail Corridor | 700,000
FL | City of Fort Lauderdale | D2015-TODP-0007 | Catalyzing TOD Along and Adjacent to the Wave Streetcar Extensions | 1,250,000
FL | South Florida Regional Transportation Authority | D2015-TODP-0008 | South Florida Regional TOD Pilot Program | 1,250,000
GA | City of Atlanta | D2015-TODP-0009 | Atlanta BeltLine Transit Supportive Land Use Implementation Plan | 500,000
GA | Metropolitan Atlanta Rapid Transit Authority | D2015-TODP-0010 | Strategic Plan for TOD in the I-20 East Corridor | 1,600,000
IL | Chicago Transit Authority | D2015-TODP-0011, D2015-TODP-0012 | Red and Purple Modernization Phase One TOD Plan | 1,250,000
IN | Northern Indiana Commuter Transportation District | D2015-TODP-0013 | West Lake Extension TOD Planning | 300,000
MI | Capital Area Transportation Authority (CATA) | D2015-TODP-0014 | CATA Bus Rapid Transit TOD-Form Based Zoning Code | 1,250,000
MI | Southeast Michigan Council of Governments | D2015-TODP-0015 | City of Detroit/Oakland County Coordinated Land Use Planning for the Woodward Avenue BRT Corridor | 250,000
MN | Metropolitan Council | D2015-TODP-0016 | Gateway Corridor: BRTOD (Bus Rapid Transit Oriented Development) Planning | 1,000,000
NC | GoTriangle (formerly known as Triangle Transit) | D2015-TODP-0017 | Durham-Chapel Hill TOD Planning and Implementation Framework | 1,691,615
NM | City of Albuquerque | D2015-TODP-0018 | Central Avenue TOD Planning via Comprehensive Plan Update and Unified Development Ordinance | 860,000
NY | Niagara Frontier Transportation Authority | D2015-TODP-0019 | Comprehensive TOD Planning for Transit Options Amherst-Buffalo | 640,765
PA | Urban Redevelopment Authority of Pittsburgh | D2015-TODP-0020 | Pittsburgh Uptown and Fifth/Forbes Corridor Bus Rapid Transit TOD Project | 1,200,000
UT | Utah Transit Authority | D2015-TODP-0021 | Provo/Orem BRT—TOD Analysis and Implementation Plan | 250,500
WA | Sound Transit | D2015-TODP-0022 | Links to Opportunity: A mobility and economic development plan for Tacoma Link Expansion communities | 2,000,000

[FR Doc. 2015-23154 Filed 9-14-15; 8:45 am]

BILLING CODE P